DEPARTMENT OF ENERGY

Federal Energy Regulatory Commission

[Docket No. RP96-275-007]

Tennessee Gas Pipeline Company; Notice of Compliance Filing

May 22, 2000.

Take notice that on May 16, 2000, Tennessee Gas Pipeline Company (Tennessee), tendered for filing as part of its FERC Gas Tariff, Fifth Revised Volume No. 1, Sixth Revised Sheet No. 405. Tennessee requests an effective date of June 16, 2000.

Tennessee states that this filing is in compliance with the Commission's April 13, 2000 Order on Remand in the above-referenced docket (Remand Order). Tennessee Gas Pipeline Company, 91 FERC ¶ 61,053 (2000). Tennessee further states that the filing eliminates the 20-year term-matching cap from Tennessee's net present value firm capacity allocation method.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-13225 Filed 5-25-00; 8:45 am]

BILLING CODE 6717-01-M